NATIONAL FOUNDATION OF THE ARTS AND THE HUMANITIES

Institute of Museum and Library Services

49th Meeting of the National Museum and Library Services Board

AGENCY: Institute of Museum and Library Services (IMLS), National Foundation of the Arts and the Humanities (NFAH).

ACTION: Notice of meeting.

SUMMARY: Pursuant to the Federal Advisory Committee Act, notice is hereby given that the National Museum and Library Services Board will meet to advise the Director of the Institute of Museum and Library Services (IMLS) with respect to duties, powers, and authority of IMLS relating to museum, library, and information services, as well as coordination of activities for the improvement of these services.

DATES: Dates and Time: The meeting will be held on June 24, 2024, from 1 p.m. ET until 4:30 p.m. ET.

Place: The meeting will convene in a virtual format. Virtual meeting and audio conference technology will be used. Instructions for joining will be sent to all registrants.

FOR FURTHER INFORMATION CONTACT: Katherine Maas, Chief of Staff and Alternate Designated Federal Officer, Institute of Museum and Library Services, Suite 4000, 955 L'Enfant Plaza North SW, Washington, DC 20024; (202) 653-4798; kmaas@imls.gov.

SUPPLEMENTARY INFORMATION: The National Museum and Library Services Board is meeting pursuant to the National Museum and Library Service Act, 20 U.S.C. 9105a, and the Federal Advisory Committee Act (FACA), as amended, 5 U.S.C. App.

The 49th Meeting of the National Museum and Library Services Board, which is open to the public, will convene at 1 p.m. Eastern Time on June 24, 2024.

The agenda for the 49th Meeting of the National Museum and Library Services Board will be as follows:

I. Call to Order

II. Approval of Minutes of the 48th Meeting

III. Director's Welcome and Update

IV. PCAH Update

V. FY25 Budget Update

VI. Equity Action Plan: Framing Breakouts

VII. Breakout Groups

VIII. Report Outs

IX. Discussion

If you wish to attend the meeting, please inform IMLS as soon as possible, but no later than close of business on June 17, 2024, by contacting Katherine Maas at kmaas@imls.gov. Virtual meeting information will be sent to all public registrants. Please provide notice of any special needs or accommodations by June 5th, 2024.

Dated: May 22, 2024.
Brianna Ingram,
Paralegal Specialist.

[FR Doc. 2024-11808 Filed 5-29-24; 8:45 am]

BILLING CODE 7036-01-P